INTERNATIONAL TRADE COMMISSION

[Investigation Nos. 701-TA-457 and 731-TA-1153 (Preliminary)]

Certain Tow-Behind Lawn Groomers and Parts Thereof From China Determinations

On the basis of the record¹ developed in the subject investigations, the United States International Trade Commission (Commission) determines, pursuant to sections 705(b) and 735(b) of the Tariff Act of 1930 (19 U.S.C. 1671d(a) and 1673d(a)) (the Act), that there is a reasonable indication that an industry in the United States is materially injured by reason of imports from China of certain tow-behind lawn groomers and parts thereof (“TBLG”), provided for in statistical reporting numbers 8432.40.0000, 8432.80.0000, 8432.90.0030, 8432.90.0080, 8479.89.9897, 8479.90.9496, and 9603.50.0000 of the Harmonized Tariff Schedule of the United States, that are alleged to be sold in the United States at less than fair value (LTFV) and alleged to be subsidized by the Government of China.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under section 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 24, 2008, a petition was filed with the Commission and Commerce by Agri-Fab, Inc., Sullivan, IL, alleging that an industry in the United States is materially injured by reason of subsidized imports of TBLGs from China and LTFV sales of TBLG imports from China. Accordingly, effective June 24, 2008, the Commission instituted countervailing duty investigation No. 701-TA-457 (Preliminary) and antidumping investigation No. 731-TA-1153 (Preliminary).

Notice of the institution of the Commission's investigations and of a public conference to be held in connection therewith was given by posting copies of the notice in the Office of the Secretary, U.S. International Trade Commission, Washington, DC, and by publishing the notice in the Federal Register of July 1, 2008 (72 FR 37494). The conference was held in Washington, DC, on July 15, 2008, and all persons who requested the opportunity were permitted to appear in person or by counsel.

The Commission transmitted its determinations in these investigations to the Secretary of Commerce on August 8, 2008. The views of the Commission are contained in USITC Publication 4028 (August 2008), entitled Certain Tow-Behind Lawn Groomers and Parts Thereof from China Investigation Nos. 701-TA-457 and 731-TA-1153 (Preliminary).

By order of the Commission.
Issued: August 18, 2008.
William R. Bishop,
Acting Secretary to the Commission.

[FR Doc. E8-19400 Filed 8-20-08; 8:45 am]

BILLING CODE 7020-02-P